DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

BNSF Railway and Norfolk Southern Railway

[Docket Number FRA-2006-26435]

The BNSF Railway (BNSF) and Norfolk Southern Railway (NS), two Class I Railroads, request relief from certain provisions of Title 49 Code of Federal Regulations (CFR) Part 232 Brake System Safety Standards for Freight and Other Non-Passenger Trains and Equipment and 49 CFR Part 229 Railroad Locomotive Safety Standards to begin implementation of Electronically Controlled Pneumatic (ECP) brakes. The petition implicitly requests, as well, exemption from certain provisions of Chapter 204, Title 49, United States Code. The petitioners believe that implementation of ECP brakes requires a substantial capital investment, and relief from certain provisions of 49 CFR Part 232 will permit them to initiate pilot train operations. In addition, BNSF and NS believe that this relief will permit them to implement this pilot program on an expedited basis, allow FRA and the industry to identify definable savings with ECP brake equipped train operations, and evaluate changes to the CFR to accommodate these operations on a permanent basis.

BNSF and NS specifically request relief from the following subsections of 49 CFR Part 232: 232.207 Class IA Brake Test, 232.15(a)(7) Movement of defective equipment, 232.103 (d) and 232.103(g) General requirement for train braking system, 232.109 Dynamic brake requirements, 232.111(b)(3) and (4) Train handling information, 232.205 Class I brake test, 232.205(c)(3), (c)(4) and (c)(5), 232.209(a)(1) Class II brake inspection, 232.211 Class III brake inspection, 232.217(c)(3) Train brake tests conducted using yard air, 232.305 Single car airbrake tests, 232.505(e) Pre-revenue service acceptance testing plan, and elimination of all Subpart E—End of train devices. In addition, the petitioners request relief from the requirements to perform daily inspections for locomotives (49 CFR 229.21) in service on ECP brake equipped trains, performing only a trip inspection. Petitioners also represent that this requested relief should provide a framework for an expedited rulemaking by FRA which will encourage further investment in ECP brake technology throughout the railroad industry.

Interested parties are invited to participate in these proceedings by submitting written views, data, or comments. FRA anticipates scheduling a public hearing in connection with these proceedings in the near future, at a time and place yet to be determined, as the facts appear to warrant a hearing. Interested parties are advised that the petition appears to present issues that would require findings under 49 U.S.C. § 20306 (Exemption for technological improvements). The petitioners should be present at the hearing and prepared to support any required findings with evidence that any requirements of Chapter 204, title 49, United States Code, sought to be waived “preclude the development or implementation of more efficient railroad transportation equipment or other transportation innovations under existing law.”

All communications concerning these proceedings should identify the appropriate docket number (e.g., Waiver Petition Docket Number FRA-2006-26435) and must be submitted in triplicate to the Docket Clerk, DOT Central Docket Management Facility, Room Pl-401, Washington, DC 20590-0001. Communications received within 45 days of the date of this notice will be considered by FRA before final action is taken. Comments received after that date will be considered as far as practicable. All written communications concerning these proceedings are available for examination during regular business hours (9 a.m.-5 p.m.) at DOT Central Docket Management Facility, Room Pl-401 (Plaza Level), 400 Seventh Street, SW., Washington. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC, on December 4, 2006.
Grady C. Cothen, Jr.,
Deputy Associate Administrator for Safety Standards and Program Development.

[FR Doc. E6-20831 Filed 12-7-06; 8:45 am]

BILLING CODE 4910-06-P